NATIONAL ARCHIVES AND RECORDS ADMINISTRATION

36 CFR Part 1253

RIN 3095-AB61

NARA Facility Locations and Hours

AGENCY: National Archives and Records Administration (NARA).

ACTION: Proposed rule.

SUMMARY: NARA proposes to change the hours open to the public for our Kansas City, Missouri, and New York City regional archives. The Kansas City regional archives relocated on March 17, 2009, to the Union Station Complex at 400 West Pershing Road, Kansas City, Missouri. NARA is also proposing to shift the hours open to the public at the New York City regional archives to better serve the public for the range of hours covering the majority of visits. This proposed rule will affect the public.

DATES: Submit comments on or before August 11, 2009.

ADDRESSES: NARA invites interested persons to submit comments on this proposed rule. Please include “Attn: 3095-AB61” and your name and mailing address in your comments. Comments may be submitted by any of the following methods:

• Federal eRulemaking Portal: Go to http://www.regulations.gov. Follow the online instructions for submitting comments.

• Fax: Submit comments by facsimile transmission to 301-837-0319.

• Mail: Send comments to Regulations Comments Desk (NPOL), Room 4100, Policy and Planning Staff, National Archives and Records Administration, 8601 Adelphi Road, College Park, MD 20740-6001.

• Hand Delivery or Courier: Deliver comments to 8601 Adelphi Road, College Park, MD.

FOR FURTHER INFORMATION CONTACT: Jennifer Davis Heaps at 301-837-1801.

SUPPLEMENTARY INFORMATION: The location of NARA's Kansas City regional archives has changed. This document proposes to update 36 CFR Part 1253 with the new location information. Also, NARA proposes a change of hours for our Kansas City location and existing New York City location.

Kansas City, MO

NARA published a notice in the Federal Register on October 20, 2008 (73 FR 62340), announcing a temporary change in hours for our Kansas City regional archives to prepare for the move to the location covered in this proposed rule. On March 17, 2009, the Kansas City regional archives relocated to the Union Station Complex at 400 West Pershing Road, Kansas City, Missouri. We are proposing to revise 36 CFR 1253.7(c) to include the new address for that regional archives, as well as the new research room hours, 8 a.m.-4 p.m., Tuesday-Saturday. These hours correspond with public hours for other institutions in the Union Station/Crossroads cultural district, including the Kansas City Museum at Union Station and the National World War I Museum.

Other hours at the new Kansas City location are as follows:

• Exhibits Galleries: 9 a.m.-5 p.m., Tuesday-Saturday.

• Administration and Records Management Services to Federal Agencies: 8 a.m.-4:30 p.m., Monday-Friday.

• Kansas City Store at the National Archives: 10 a.m.-4 p.m., Tuesday-Saturday.

These hours, while not proposed for inclusion in § 1253.7(c) of this part, will be available on NARA's Web site, http://www.archives.gov.

New York, NY

NARA is also proposing to shift the hours open to the public at the New York City regional archives to better serve patrons for the range of hours the vast majority want to visit. There will be slightly fewer hours per week but with little, if any, anticipated adverse impact upon the public. This location is currently open Monday through Friday, 8 a.m. until 4:30 p.m. and the first Saturday of each month from 8:30 a.m. until 4:30 p.m. (42.5 hours per week, plus 8 extended hours per month). Proposed new hours would be Monday through Friday, 9 a.m. until 5 p.m. and on the first Saturday of each month, 9 a.m. until 4:30 p.m. (40 hours per week, plus 7.5 extended hours per month). This change would result in a slight reduction of hours (2.5 hours per week, plus half an hour per month).

Since October 2007, the New York regional archives has had an average of less than one visitor during the hour from 8 to 9 a.m.

Date span | Number of days open | Number of days with no visitors before 9 a.m. | Average number of visitors between 8 and 9 a.m.
October 2006-September 2007 | 259 | 53 | 1.5
October 2007-September 2008 | 264 | 79 | 0.9
October 2008-February 2009 | 105 | 40 | 0.9

Figure 1. Public Visitors at NARA's New York Regional Archives, October 2006-February 2009.

As seen in Figure 1, from October 2007 through September 2008, New York had no visitors before 9 a.m. on just under 30 percent of the days open to the public. From October 2008 through February 2009, there were no visitors before 9 a.m. on 38 percent of the days open to the public. As a result, we do not anticipate that opening one hour later will negatively impact public use. Visitors who do arrive before 9 a.m. usually are regular researchers who remain at the facility most of the day. We also believe that remaining open until 5 p.m. will benefit those who come to us later in the day. In many cases, these visitors arrive after 4 p.m. and have been sent to our offices by other Federal agencies.

This proposed rule is not a significant regulatory action for the purposes of Executive Order 12866 and has not been reviewed by the Office of Management and Budget (OMB). As required by the Regulatory Flexibility Act, it is hereby certified that this proposed rule will not have a significant impact on a substantial number of small entities because this rule applies to individual researchers. This proposed rule does not have any federalism implications.

List of Subjects in 36 CFR Part 1253

Archives and records.

For the reasons set forth in the preamble, NARA proposes to amend part 1253 of title 36, Code of Federal Regulations, as follows:

PART 1253—LOCATIONS OF RECORDS AND HOURS OF USE

1. The authority citation for part 1253 continues to read as follows:

Authority: 44 U.S.C. 2104(a).

2. Amend § 1253.7 by revising paragraphs (c) and (g) as follows:

§ 1253.7 Regional Archives.

* * * * *

(c) NARA—Northeast Region (New York City) is located at 201 Varick Street, 12th Floor, New York, NY 10014-4811 (entrance on Houston Street, between Varick and Hudson). The hours are 9 a.m. to 5 p.m., Monday through Friday. The telephone number is 212-401-1620 or Toll Free 1-866-840-1752.

* * * * *

(g) NARA—Central Plains Region (Kansas City) is located at 400 West Pershing Road, Kansas City, MO 64108. The hours are 8 a.m. to 4 p.m., Tuesday through Saturday. The telephone number is 816-268-8000.

* * * * *

Dated: June 1, 2009.
Adrienne C. Thomas,
Acting Archivist of the United States.

[FR Doc. E9-14009 Filed 6-11-09; 8:45 am]

BILLING CODE 7515-01-P